COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List services to be furnished by nonprofit agencies employing persons who are blind or have other severe disabilities, and deletes from the Procurement List commodities and a service previously furnished by such agencies.

EFFECTIVE DATE: March 6, 2000.

ADDRESS: Committee for Purchase From People Who Are Blind or Severely Disabled, Crystal Gateway 3, Suite 310, 1215 Jefferson Davis Highway, Arlington, Virginia 22202-4302.

FOR FURTHER INFORMATION CONTACT: Leon A. Wilson, Jr. (703) 603-7740.

SUPPLEMENTARY INFORMATION: On October 29, November 5, and December 10, 17, and 27, 1999, the Committee for Purchase From People Who Are Blind or Severely Disabled published notices (64 F.R. 58378, 60407, 69225, 70694 and 72312) of proposed additions to and deletions from the Procurement List:

Additions

After consideration of the material presented to it concerning capability of qualified nonprofit agencies to provide the services and impact of the additions on the current or most recent contractors, the Committee has determined that the services listed below are suitable for procurement by the Federal Government under 41 U.S.C. 46-48c and 41 CFR 51-2.4.I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are hereby added to the Procurement List:

Base Supply Center and Operation of Individual Equipment Element Store Langley Air Force Base, Virginia

Grounds Maintenance, U.S. Dept. of the Interior, National Park Service, Golden Gate National Recreation Area, Fort Mason, San Francisco, California

Janitorial/Custodial, U.S. Coast Guard, Vessel Traffic Service San Francisco, Yerba Buena Island, Building 278, San Francisco, California

Janitorial/Custodial for the following locations in Washington, DC:U.S. Customs Service, 1301 Constitution Avenue, NW; Interstate Commerce Commission, 12th & Constitution Avenue, NW; Departmental Auditorium & Connecting Wing, 1201 Constitution Avenue, NW

Janitorial/Custodial, U.S. Merchant Marine Academy, Kings Point, New York

Mailing Services, Centers for Disease Control and Prevention, National Center for Infectious Diseases, Atlanta, Georgia

Operation of Individual Equipment Element Store, Altus Air Force Base, Oklahoma

Operation of Individual Equipment Element Store, Goodfellow Air Force Base, Texas

This action does not affect current contracts awarded prior to the effective date of this addition or options that may be exercised under those contracts.

Deletions

I certify that the following action will not have a significant impact on a substantial number of small entities. The major factors considered for this certification were:

1. The action may not result in any additional reporting, recordkeeping or other compliance requirements for small entities.

2. The action will not have a severe economic impact on future contractors for the commodities and service.

3. The action may result in authorizing small entities to furnish the commodities and service to the Government.

4. There are no known regulatory alternatives which would accomplish the objectives of the Javits-Wagner-O'Day Act (41 U.S.C. 46-48c) in connection with the commodities and service deleted from the Procurement List.

After consideration of the relevant matter presented, the Committee has determined that the commodities and service listed below are no longer suitable for procurement by the Federal Government under 41 U.S.C. 46-48c and 41 CFR 51-2.4.

Accordingly, the following commodities and service are hereby deleted from the Procurement List:

Commodities

Penetrating Fluid 6850-00-985-7180

6850-00-508-0076

Water-Displacing Compound

6850-00-142-9389

6850-00-142-9409

Cleaning Compound, Rug and Upholstery

7930-01-393-6760

Detergent, General Purpose

7930-00-531-9715

7930-00-531-9716

Dishwashing Compound, Hand

7930-01-055-6136

Service

Base Supply Center, Fort McClellan, Alabama

Louis R. Bartalot,
Deputy Director (Operations).

[FR Doc. 00-2491 Filed 2-3-00; 8:45 am]

BILLING CODE 6353-01-P